DEPARTMENT OF ENERGY

Federal Energy Regulatory Commission

[Docket No. OR19-36-000]

Pilot Travel Centers LLC v. Colonial Pipeline Company; Notice of Complaint

Take notice that on September 25, 2019, pursuant to Rule 206 of the Rules of Practice and Procedure of the Federal Energy Regulatory Commission's (Commission) 18 CFR 385.206 (2019), Part 343 of the Commission's Rules and Regulations, 18 CFR 343, et seq. (2019) and sections 1(5), 6, 8, 9,13, 15, and 16 of the Interstate Commerce Act (ICA), 49 U.S.C. App. 1(5), 6, 8, 9, 13, 15, and 16 and section 1803 of the Energy Policy Act of 1992, Pilot Travel Centers LLC (Complainant) filed a formal complaint against Colonial Pipeline Company (Colonial or Respondent) challenging the justness and reasonableness of (1) Colonial's cost-based transportation rates in Tariff F.E.R.C. No. 99.52.0 and predecessor tariffs; (2) Colonial's market-based rate authority and rates charged pursuant to that authority; and (3) Colonial's charges relating to product loss allocation and transmix, all as more fully explained in the complaint.

Pilot certifies that copies of the complaint were served on the contacts for Colonial as listed on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on October 25, 2019.

Dated: September 26, 2019.
Nathaniel J. Davis, Sr.,
Deputy Secretary.

[FR Doc. 2019-21405 Filed 10-1-19; 8:45 am]

BILLING CODE 6717-01-P